DEPARTMENT OF THE INTERIOR

Bureau of Land Management

[LLNVE02000 L51100000.GN0000 LVEMF1000570 241A; MO:4500011675; 10-08807; TAS: 14X5017]

Notice of Intent To Prepare an Environmental Impact Statement for the Proposed Hollister Underground Mine Project, Elko County, NV

AGENCY: Bureau of Land Management, Interior.

ACTION: Notice of Intent.

SUMMARY: In compliance with the National Environmental Policy Act of 1969, as amended, (NEPA) and the Federal Land Policy and Management Act of 1976, as amended, the Bureau of Land Management (BLM) Tuscarora Field Office, Elko, Nevada, intends to prepare an Environmental Impact Statement (EIS) and by this notice is announcing the beginning of the scoping process to solicit public comments and to identify issues.

DATES: This notice initiates the public scoping process for the EIS. Comments on issues may be submitted in writing until May 19, 2010. The date(s) and location(s) of any scoping meetings will be announced at least 15 days in advance through local media, newspapers and the BLM Web site at: http://www.blm.gov/nv/st/en/fo/elko_field_office.html. In order to be included in the Draft EIS, all comments must be received prior to the close of the scoping period or 15 days after the last public meeting, whichever is later. The BLM will provide additional opportunities for public participation upon publication of the Draft EIS.

ADDRESSES: You may submit comments related to the Hollister Underground Mine Project by any of the following methods:

• Web site: http://www.blm.gov/nv/st/en/fo/elko_field_office.html.

• E-mail: janice_stadelman@blm.gov.

• Fax: (775) 753-0255.

• Mail: BLM Tuscarora Field Office, Attn. Janice Stadelman, 3900 Idaho Street, Elko, Nevada 89801.

Documents pertinent to this proposal may be examined at the Tuscarora Field Office.

FOR FURTHER INFORMATION CONTACT: For further information and/or to have your name added to the mailing list, contact Janice Stadelman, Project Lead, telephone (775) 753-0346; address 3900 Idaho St., Elko, Nevada 89801; e-mail janice_stadelman@blm.gov.

SUPPLEMENTARY INFORMATION: Rodeo Creek Gold Inc. has proposed an amendment to their plan of operations for the Hollister Underground Mine Project. The proposed amendment would expand Rodeo Creek Gold Inc.'s existing underground exploration activities into a full-scale underground mining operation. Most of the necessary infrastructure to support full-scale mining was authorized and built in conjunction with the underground exploration activities. Currently, the project has created 66 acres of approved surface disturbance on public lands, of which approximately 75 percent of the existing facilities are located on previously disturbed ground within an existing open pit mine. The proposed expansion to full-scale mining would disturb an additional 58 acres of public land for a total of 124 acres of surface disturbance. The proposed action consists of constructing a new production shaft; improving existing roads; building a power transmission line to the mine site; upgrading ancillary facilities including storage areas, office, shop, and warehouse buildings; and continuing both surface and underground exploration. The full-scale project would augment the existing mine water management facilities that currently include a reverse-osmosis and desilting water treatment plant and rapid infiltration basins by adding underground dewatering wells and obtaining a National Pollutant Discharge Elimination System permit to authorize discharge of groundwater to Little Antelope Creek. The Hollister Project would haul the mined ore using highway-legal trucks to existing off-site milling facilities via existing roads that would be improved as needed; no on-site processing facilities are proposed. The project is expected to operate for 20 years. The proposed project is located in and adjacent to the Tosawihi Quarries Archaeological District and near the Tosawihi Quarries Traditional Cultural Properties (TCP), 47 miles northwest of Elko, Nevada, in Elko County.

The purpose of the public scoping process is to determine relevant issues that will influence the scope of the environmental analysis, including alternatives, and guide the process for developing the EIS. At present, the BLM has identified the following preliminary issues: cultural resources, Native American religious concerns, hydrology, and noise.

The BLM will use and coordinate the NEPA commenting process to satisfy the public involvement process for Section 106 of the National Historic Preservation Act, 16 U.S.C. 470f, as provided for in 36 CFR 800.2(d)(3). Native American tribal consultations will be conducted and Tribal concerns will be given due consideration, including impacts on Indian trust assets, if any. Federal, State, and local agencies, along with other stakeholders that may be interested or affected by the BLM's decision on this project are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7.

Kenneth E. Miller,
Manager, Elko District Office.

[FR Doc. 2010-8906 Filed 4-16-10; 8:45 am]

BILLING CODE 4310-HC-P